DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 16C-17, Rockville, MD 20857;(301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 2, 2003, through March 31, 2003.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Office of Special Programs, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Vincent L. Brown on behalf of Chance Michael V. Brown, Great Neck, New York, Court of Federal Claims Number 03-0001V

2. Kenneth W. Goss on behalf of Kendall L. Goss, Florence, South Carolina, Court of Federal Claims Number 03-0002V

3. Suzanne and Donald Jacques on behalf of Matthew Jacques, Altamont, New York, Court of Federal Claims Number 03-0003V

4. Cary Ann Bennett on behalf of Zachary Scraver, Houston, Texas, Court of Federal Claims Number 03-0004V

5. Carolyn and Marcelo Ferrari of Stefan Ferrari, Houston, Texas, Court of Federal Claims Number 03-0005V

6. Rebecca and Michael Hohe on behalf of Caroline Hohe, Houston, Texas, Court of Federal Claims Number 03-0006V

7. Ann and Keven Madsen on behalf of Nicholas Madsen, Houston, Texas, Court of Federal Claims Number 03-0007V

8. Rachel and Robert Ross on behalf of Benjamin Ross, Houston, Texas, Court of Federal Claims Number 03-0008V

9. Deborah and Charley West on behalf of Charley West, IV, Houston, Texas, Court of Federal Claims Number 03-0009V

10. Susan and James Wiles on behalf of Blake Wiles, Houston, Texas, Court of Federal Claims Number 03-0010V

11. Myra and Scott Robinson on behalf of William Robinson, Houston, Texas, Court of Federal Claims Number 03-0011V

12. Shawna and Rand Sarver on behalf of Ryan Sarver, Houston, Texas, Court of Federal Claims Number 03-0012V

13. Carmen Medina on behalf of Frank Mato, Phoenix, Arizona, Court of Federal Claims Number 03-0013V

14. Janice Thomas on behalf of Elijah Tavon Nathaniel Howell, New Albany, Mississippi, Court of Federal Claims Number 03-0014V

15. Denise Nason on behalf of Rachelle Roxanne Nason, Massena, New York, Court of Federal Claims Number 03-0015V

16. Anita and William Anderson on behalf of Jack Dakota Anderson, Richmond, Virginia, Court of Federal Claims Number 03-0016V

17. Latonia Thomas on behalf of Brandon Thomas, Tyler, Texas, Court of Federal Claims Number 03-0017V

18. Christina Hess on behalf of William P. Hess, Jr., Schenectady, New York, Court of Federal Claims Number 03-0018V

19. Janeen Hollingsworth on behalf of Shakiem Hollingsworth, Monks Corner, South Carolina, Court of Federal Claims Number 03-0019V

20. Bambi Spooner and Shawn Price on behalf of Shawnna Price, Deceased, Lowell, Massachusetts, Court of Federal Claims Number 03-0020V

21. Lamekia Williams on behalf of Tevin James Williams, Tyler, Texas, Court of Federal Claims Number 03-0026V

22. Melanie and Michael Moore on behalf of Matthew Moore, Philadelphia, Pennsylvania, Court of Federal Claims Number 03-0027V

23. Michelle and Brandon Lyons on behalf of Brandon Lyons, Jr., Marrero, Louisiana, Court of Federal Claims Number 03-0028V

24. Mariece and Terry Metzger on behalf of Danielle Marie Metzger, Dallas, Texas, Court of Federal Claims Number 03-0029V

25. Pamela and Thomas Blake on behalf of William J. Blake, Baton Rouge, Louisiana, Court of Federal Claims Number 03-0031V

26. Josephine Gatto on behalf of Victoria Gatto, Tenafly, New Jersey, Court of Federal Claims Number 03-0032V

27. Crystal McClintock on behalf of Jonah Christopher Fox, Warren, Ohio, Court of Federal Claims Number 03-0033V

28. Theresa Stevens on behalf of Dalton Stevens, Berlin, New York, Court of Federal Claims Number 03-0034V

29. Martha and Stephen Andrews on behalf of Mackenzie Andrews, Schenectady, New York, Court of Federal Claims Number 03-0036V

30. Dorothy May on behalf of Williesia Williams, Houston, Texas, Court of Federal Claims Number 03-0039V

31. Dorothy May on behalf of Adrian Williams, Houston, Texas, Court of Federal Claims Number 03-0040V

32. Dorothy May on behalf of Devin Williams, Houston, Texas, Court of Federal Claims Number 03-0041V

33. Kimberly Smith on behalf of Tre'Shaud Smith, Houston, Texas, Court of Federal Claims Number 03-0042V

34. Emma Dawson on behalf of Sammie Peete, Houston, Texas, Court of Federal Claims Number 03-0043V

35. Carol Knox on behalf of Donovan Knox, Houston, Texas, Court of Federal Claims Number 03-0044V

36. Theresa Wilson on behalf of James Hicks, Houston, Texas, Court of Federal Claims Number 03-0045V

37. Rachel Harris on behalf of Douglas Harris, Houston, Texas, Court of Federal Claims Number 03-0046V

38. Torachel Craft on behalf of Alexis Craft, Houston, Texas, Court of Federal Claims Number 03-0047V

39. Laura and Calvin Willis on behalf of Jared Willis, Deatsville, Alabama, Court of Federal Claims Number 03-0048V

40. Kevin Dunphy on behalf of Yusuf Mustafa Dunphy, Great Neck, New York, Court of Federal Claims Number 03-0049V

41. Kelly Gatti on behalf of Philip Gatti, Jr., Centereach, New York, Court of Federal Claims Number 03-0050V

42. Kelly Gatti on behalf of Melissa Gatti, Centereach, New York, Court of Federal Claims Number 03-0051V

43. Angela A. Jones, Lubbock, Texas, Court of Federal Claims Number 03-0052V

44. Melanie Humphrey on behalf of Lee Humphrey, Dallas, Texas, Court of Federal Claims Number 03-0054V

45. Haven DeLay and Gerard Dziuba on behalf of Ethan Emerson Dragan Dziuba, Dallas, Texas, Court of Federal Claims Number 03-0055V

46. Cathy and Joseph Semens on behalf of Tyler Allen Semens, Dallas, Texas, Court of Federal Claims Number 03-0056V

47. Darlene M. Williams on behalf of Joshua D. Williams, Harrisburg, Pennsylvania, Court of Federal Claims Number 03-0057V

48. Linda C. Leavy on behalf of Jason P. Leavy, Harrisburg, Pennsylvania, Court of Federal Claims Number 03-0058V

49. Nery N. Ortiz-Mutilitis on behalf of Frankie Leigh Ann Mutilitis, Harrisburg, Pennsylvania, Court of Federal Claims Number 03-0059V

50. Monique and Luke Thometz on behalf of Tiffany Thometz, Deceased, Puyallup, Washington, Court of Federal Claims Number 03-0063V

51. Lori Abend on behalf of Michael Abend, Boston, Massachusetts, Court of Federal Claims Number 03-0064V

52. Lisa Lewis on behalf of Ethan Lewis, Boston, Massachusetts, Court of Federal Claims Number 03-0065V

53. Christine Bordi on behalf of Julea Bordi, Boston, Massachusetts, Court of Federal Claims Number 03-0066V

54. Monica Garcia on behalf of Odilon Murillo, Boston, Massachusetts, Court of Federal Claims Number 03-0067V

55. Sheila Ealey on behalf of Temple Ealey, Boston, Massachusetts, Court of Federal Claims Number 03-0068V

56. Kimberly Phillips on behalf of Erin Derieux, Boston, Massachusetts, Court of Federal Claims Number 03-0069V

57. Meredith Newnham on behalf of Allison Newnham, Boston, Massachusetts, Court of Federal Claims Number 03-0070V

58. Renee Compton on behalf of Lewis Aram Compton, Boston, Massachusetts, Court of Federal Claims Number 03-0071V

59. Michael Shepard on behalf of Jordan Shepard, Boston, Massachusetts, Court of Federal Claims Number 03-0072V

60. Georgia Mejias on behalf of Kelly Mejias, Boston, Massachusetts, Court of Federal Claims Number 03-0073V

61. Danielle Bates on behalf of Noelle Bates, Boston, Massachusetts, Court of Federal Claims Number 03-0074V

62. Donna Patterson on behalf of Mason Patterson, Boston, Massachusetts, Court of Federal Claims Number 03-0075V

63. Maria Villa on behalf of Cesar Javier Villa, Jr., Boston, Massachusetts, Court of Federal Claims Number 03-0076V

64. Sabbir Ahmed on behalf of Faraaz Ahmed, Boston, Massachusetts, Court of Federal Claims Number 03-0077V

65. Karol Hyland on behalf of Kory Deon Rollings, Chicago, Illinois, Court of Federal Claims Number 03-0078V,

66. Larissa and Isaac Foster on behalf of Lacey Ann Foster, Chandler, Arizona, Court of Federal Claims Number 03-0079V

67. Alizabeth and Sultan Haddad on behalf of Kiyan Sultan Haddad, West Hills, California, Court of Federal Claims Number 03-0080V

68. Deidre Robinson on behalf of Tyelor Herbert Robinson, Chicago, Illinois, Court of Federal Claims Number 03-0081V

69. Felicia and Harris Williams on behalf of Stephanie Renea Isom, Bensenville, Illinois, Court of Federal Claims Number 03-0082V

70. Marinka and Gregory Green on behalf of Scott Everett Green, Philadelphia, Pennsylvania, Court of Federal Claims Number 03-0085V

71. Sandra Adams, Irvine, California, Court of Federal Claims Number 03-0086V

72. Claudia Rodriguez on behalf of Mario Arturo Rodriguez, Kansas City, Missouri, Court of Federal Claims Number 03-0087V

73. Kathy and Jeffrey Greib on behalf of Travis Markel Greib, Dallas, Texas, Court of Federal Claims Number 03-0088V

74. Carmen and Craig Carley on behalf of Chloe Ann Carley, Dallas, Texas, Court of Federal Claims Number 03-0089V

75. Tonia and Gregory Wade on behalf of Kaliya Wade, Great Neck, New York, Court of Federal Claims Number 03-0093V

76. Diane and Frank Gagliardi on behalf of Amanda Gagliardi, Mount Kisco, New York, Court of Federal Claims Number 03-0094V

77. Carrie and Bradford Howard on behalf of Austyn Howard, Philadelphia, Pennsylvania, Court of Federal Claims Number 03-0095V

78. Barbara Paynter on behalf of Ian Paynter, Boston, Massachusetts, Court of Federal Claims Number 03-0096V

79. Nancy and John Gardella on behalf of Jonathan Alexander Gardella, New York, New York, Court of Federal Claims Number 03-0097V

80. Marcella Preble on behalf of Jakob Preble, Portland, Oregon, Court of Federal Claims Number 03-0098V

81. Kimberlee Sue Maelfeyt on behalf of Courtney Shriner, Portland, Oregon, Court of Federal Claims Number 03-0099V

82. Nancy Sittser on behalf of Paul Sittser, Portland, Oregon, Court of Federal Claims Number 03-0100V

83. Julia and Todd Simanski on behalf of Olivia Anne Simanski, Des Moines, Iowa, Court of Federal Claims Number 03-0103V

84. Sharon Bafetti on behalf of Connor Bafetti, Vienna, Virginia, Court of Federal Claims Number 03-0104V

85. John Brown on behalf of Chase Brown, Vienna, Virginia, Court of Federal Claims Number 03-0105V

86. Anna Duros on behalf of Andrew Duros, Vienna, Virginia, Court of Federal Claims Number 03-0106V

87. Stephanie Harzewski on behalf of Nicholas Harzewski, Vienna, Virginia, Court of Federal Claims Number 03-0107V

88. Pamela Parks and Paul Sandy on behalf of Trent Sandy, Vienna, Virginia, Court of Federal Claims Number 03-0108V

89. Holly Vanderdonck on behalf of Brooke Vanderdonck, Vienna, Virginia, Court of Federal Claims Number 03-0109V

90. Marie Louise and Terrence Augustine O'Grady on behalf of Timothy O'Grady, Richmond, Virginia, Court of Federal Claims Number 03-0111V

91. Stephanie and David Anderson on behalf of Jonathan Anderson, Suwanee, Georgia, Court of Federal Claims Number 03-0112V

92. Anne Wyman on behalf of Ryan Admire-Wyman, Great Neck, New York, Court of Federal Claims Number 03-0113V

93. Robin and William Rickard on behalf of Michael Montgomery Rickard, Great Neck, New York, Court of Federal Claims Number 03-0114V

94. Elizabeth Pelletier on behalf of Jacob D. Pelletier, Portland, Oregon, Court of Federal Claims Number 03-0116V

95. Ronald Zemp on behalf of Casey Zemp, Portland, Oregon, Court of Federal Claims Number 03-0117V

96. Jennifer Worley on behalf of Samuel Linder, Portland, Oregon, Court of Federal Claims Number 03-0118V

97. James Holley on behalf of Michael Holley, Portland, Oregon, Court of Federal Claims Number 03-0119V

98. Joanne and Kevin McCarthy on behalf of Derek James McCarthy, Great Neck, New York, Court of Federal Claims Number 03-0120V

99. Lori and Chris Blount on behalf of Carrie K. Blount, Ridgeland, Mississippi, Court of Federal Claims Number 03-0121V

100. Allison and J. Michael Bertram on behalf of Andrew M. Bertram, Madison, Mississippi, Court of Federal Claims Number 03-0122V

101. Adele Livingston on behalf of Troy Livingston, Voorheesville, New York, Court of Federal Claims Number 03-0123V

102. Billie Jean Chalk on behalf of Christopher Chalk, Hamburg, Arkansas, Court of Federal Claims Number 03-0124V

103. Bonnie and Ted Calandra on behalf of Jesse A. Calandra, Madison, Mississippi, Court of Federal Claims Number 03-0125V

104. Susan and Dale Chukker on behalf of Lindsey M. Chukker, Melbourne, Florida, Court of Federal Claims Number 03-0126V

105. Susan and August Tomelleri on behalf of Jack A. Tomelleri, Kansas City, Missouri, Court of Federal Claims Number 03-0127V

106. Annie and Samuel Roberson on behalf of Travian Leander Roberson, Great Neck, New York, Court of Federal Claims Number 03-0128V

107. Rebecca and Jeffrey Brooks on behalf of Dawson Jeffrey Brooks, Great Neck, New York, Court of Federal Claims Number 03-0129V

108. Shilah and Jason Gould on behalf of Maisie Gould, Great Neck, New York, Court of Federal Claims Number 03-0130V

109. Adrienne Foster and Anthony Papandrea on behalf of Alyssa M. Papandrea, Great Neck, New York, Court of Federal Claims Number 03-0131V

110. Angelle and Anthony Comstock on behalf of Jack Comstock, Great Neck, New York, Court of Federal Claims Number 03-0132V

111. Brenda and Douglas Barnes on behalf of Virginia L. Barnes, Melbourne, Florida, Court of Federal Claims Number 03-0133V

112. Shelly and David Sulkoske on behalf of Nicholas A. Sulkoske, Canton, Georgia, Court of Federal Claims Number 03-0134V

113. Holly and Matt Hoskins on behalf of Sarah Hoskins, Melbourne, Florida, Court of Federal Claims Number 03-0135V

114. Elizabeth and G. Davis Peterson on behalf of Anne Wilson Peterson, Jackson, Mississippi, Court of Federal Claims Number 03-0136V

115. Myrna and Serge Mothee on behalf of Dwayne Mothee, Houston, Texas, Court of Federal Claims Number 03-0137V

116. Teresa and Mark Light on behalf of Romie Light, Houston, Texas, Court of Federal Claims Number 03-0138V

117. Carla and Joseph Manlapaz on behalf of Isabella Manlapaz, Houston, Texas, Court of Federal Claims Number 03-0139V

118. Julie Landon on behalf of Noah Landon, Houston, Texas, Court of Federal Claims Number 03-0140V

119. Elizabeth and Michael Morabito on behalf of Grant Morabito, Houston, Texas, Court of Federal Claims Number 03-0141V

120. Eileen and Lee Green on behalf of Evan Green, Houston, Texas, Court of Federal Claims Number 03-0142V

121. Eileen and Lee Green on behalf of Brooke Green, Houston, Texas, Court of Federal Claims Number 03-0143V

122. Lisa and Noah Leask on behalf of Brianna Leask, Houston, Texas, Court of Federal Claims Number 03-0144V

123. Shannon and Steven Johnson on behalf of Steven W. Johnson, Houston, Texas, Court of Federal Claims Number 03-0145V

124. Ellen Sweeney on behalf of Nicholas Sweeney, Houston, Texas, Court of Federal Claims Number 03-0146V

125. Nikki Belville on behalf of Tyler Belville, Summerville, South Carolina, Court of Federal Claims Number 03-0147V

126. Steven Thomason on behalf of Sabrina Thomason, Boston, Massachusetts, Court of Federal Claims Number 03-0148V

127. Laura Kiepert on behalf of Shaelyn Kiepert , Boston, Massachusetts, Court of Federal Claims Number 03-0149V

128. Melea Enzweiler on behalf of Luke Enzeweiler, Boston, Massachusetts, Court of Federal Claims Number 03-0150V

129. Joan Rossi on behalf of Michaela Rossi, Boston, Massachusetts, Court of Federal Claims Number 03-0151V

130. Rita Whitney on behalf of Max Whitney, Boston, Massachusetts, Court of Federal Claims Number 03-0152V

131. Audrey Morrison on behalf of Emmitt Scott, Boston, Massachusetts, Court of Federal Claims Number 03-0153V

132. Cynthia Montgomery on behalf of Paul Montgomery, Boston, Massachusetts, Court of Federal Claims Number 03-0154V

133. Heather Nield on behalf of Karen Nield, Boston, Massachusetts, Court of Federal Claims Number 03-0155V

134. Jennifer Brehl on behalf of Elizabeth Brehl, Boston, Massachusetts, Court of Federal Claims Number 03-0156V

135. Karen Shuster on behalf of Glen Schuster, Boston, Massachusetts, Court of Federal Claims Number 03-0157V

136. Christina Porterfield on behalf of John Porterfield, Boston, Massachusetts, Court of Federal Claims Number 03-0158V,

137. Jana Nebel on behalf of Cody Nebel, Boston, Massachusetts, Court of Federal Claims Number 03-0159V

138. Janelle Weaver on behalf of Liam Weaver, Boston, Massachusetts, Court of Federal Claims Number 03-0160V

139. Christine Miller on behalf of Jared Miller, Boston, Massachusetts, Court of Federal Claims Number 03-0161V

140. Jamie Brown on behalf of Preston Brown, Boston, Massachusetts, Court of Federal Claims Number 03-0162V

141. Pamela Beachum on behalf of Meshach Beachum, Boston, Massachusetts, Court of Federal Claims Number 03-0163V

142. Ronald Ostrow on behalf of John Ostrow, Boston, Massachusetts, Court of Federal Claims Number 03-0164V

143. Kelly Ratterree on behalf of Jordan Ratterree, Boston, Massachusetts, Court of Federal Claims Number 03-0165V

144. Tracy Snow on behalf of Kaitlyn Snow, Boston, Massachusetts, Court of Federal Claims Number 03-0166V

145. Cynthia Letsche on behalf of Jonathan Letsche, Boston, Massachusetts, Court of Federal Claims Number 03-0167V

146. Leighanne Collier on behalf of Ethan Collier, Boston, Massachusetts, Court of Federal Claims Number 03-0168V

147. Michele Sperduto on behalf of Michael Anthony Sperduto, Boston, Massachusetts, Court of Federal Claims Number 03-0169V

148. Carrie McDow on behalf of Autumn Skye Gardner, Anaheim, California, Court of Federal Claims Number 03-0170V

149. Wanda and Harold Shelton on behalf of Ryan Bradley Shelton, Birmingham, Alabama, Court of Federal Claims Number 03-0171V

150. Linda and Wayne Hollman on behalf of Madison Marie Hollman, Torrance, California, Court of Federal Claims Number 03-0172V

151. Ann and Gabriel Segovia on behalf of Gabriel James Segovia, Aransas Pass, Texas, Court of Federal Claims Number 03-0173V

152. Lynne and Steven Violett on behalf of Maxwell William Violett, Shakopee, Minnesota, Court of Federal Claims Number 03-0174V

153. Angel and Dereck Orihuela on behalf of Michael Anthony Dereck Orihuela, Houston, Texas, Court of Federal Claims Number 03-0175V

154. Julia Hornback on behalf of Kristi Hornback, Boston, Massachusetts, Court of Federal Claims Number 03-0179V

155. Michael Cox on behalf of Tyler Cox, Glenmont, New York, Court of Federal Claims Number 03-0180V

156. Jeffrey Van Horn on behalf of Logan Van Horn, Boston, Massachusetts, Court of Federal Claims Number 03-0181V

157. Shirley Nettles on behalf of William Nettles, Boston, Massachusetts, Court of Federal Claims Number 03-0182V

158. Vistoria Cronin on behalf of Christopher Cronin, Boston, Massachusetts, Court of Federal Claims Number 03-0183V

159. Sarah Ojo on behalf of Eli Ojo, Boston, Massachusetts, Court of Federal Claims Number 03-0184V

160. Kristen Cerenzia on behalf of Blake Cerenzia, Boston, Massachusetts, Court of Federal Claims Number 03-0185V

161. Jennifer Black on behalf of Hayden Black, Boston, Massachusetts, Court of Federal Claims Number 03-0186V

162. Janet Sheehan on behalf of Paul Sheehan, Boston, Massachusetts, Court of Federal Claims Number 03-0187V

163. Jennifer and Dan Hoffiz on behalf of Steven Hoffiz, Boston, Massachusetts, Court of Federal Claims Number 03-0188V

164. Laura and Stephen Pyburn on behalf of Bailey Pyburn, Dallas, Texas, Court of Federal Claims Number 03-0189V

165. Jeannine and Joseph Weiss on behalf of Christopher Weiss, Boca Raton, Florida, Court of Federal Claims Number 03-0190V

166. Laura Simonette on behalf of Michael Castellano, New York, New York, Court of Federal Claims Number 03-0194V

167. Carrie and Joseph Costa on behalf of Rebecca Costa, New York, New York, Court of Federal Claims Number 03-0195V

168. Phuong and Joseph O'Connor on behalf of Michael O'Connor, New York, New York, Court of Federal Claims Number 03-0196V

169. Jessica and Kevin Ellicott on behalf of Samuel Ellicott, New York, New York, Court of Federal Claims Number 03-0197V

170. Christine and Richard Van Dyke on behalf of Wyatt Van Dyke, Melbourne, Florida, Court of Federal Claims Number 03-0198V

171. Denise Minicozzi on behalf of Michael Walker, East Stroudsburg, Pennsylvania, Court of Federal Claims Number 03-0201V

172. Michelle and Peter Hill on behalf of Hamish Samuel McGregor, Dallas, Texas, Court of Federal Claims Number 03-0202V

173. Billie Dawn and Kyle Hightower on behalf of Cayde Wayne Hightower, Dallas, Texas, Court of Federal Claims Number 03-0203V

174. Marilyn Martinez on behalf of Benjamin Christian Figueroa, Dallas, Texas, Court of Federal Claims Number 03-0204V

175. Jessie O'Keefe on behalf of Molly O'Keefe, Deceased, Boston, Massachusetts, Court of Federal Claims Number 03-0205V

176. Gianna and Kim Carusillo on behalf of Mark Carusillo, Marlton, New Jersey, Court of Federal Claims Number 03-0206V

177. Barbara and Mark Epting on behalf of Nicholas Epting, Fonda, New York, Court of Federal Claims Number 03-0207V

178. Donald Hosler on behalf of Dominic Hosler, Boston, Massachusetts, Court of Federal Claims Number 03-0208V

179. Genett and Nathan Reed on behalf of Adam Reed, Dallas, Texas, Court of Federal Claims Number 03-0209V

180. Rudy Schutter on behalf of Jessica Schutter, Miami, Florida, Court of Federal Claims Number 03-0210V

181. Brandi and Jason Brown on behalf of Dugan Scott Brown, Tulsa, Oklahoma, Court of Federal Claims Number 03-0211V

182. Gabrielle and Thornton Floyd on behalf of Tino-Thornton Floyd, III, Ellicott City, Maryland, Court of Federal Claims Number 03-0212

183. Chandra Clark on behalf of Christopher Williams, Alexandria, Louisiana, Court of Federal Claims Number 03-0213V

184. Victoria and George Mead on behalf of William P. Mead, Portland, Oregon, Court of Federal Claims Number 03-0215V

185. Myrsa Montoya on behalf of Austin Brown, Portland, Oregon, Court of Federal Claims Number 03-0216V

186. Sheila Hadden on behalf of Abbey A. Carter, Portland, Oregon, Court of Federal Claims Number 03-0217V

187. Sherry and Ryan Haake on behalf of Chris Haake, Schenectady, New York, Court of Federal Claims Number 03-0218V

188. Te-Lin Huang on behalf of Kevin James Huang, Watervliet, New York, Court of Federal Claims Number 03-0219V

189. Pamela and Gabriel Karathomas on behalf of George Karathomas, Rexford, New York, Court of Federal Claims Number 03-0220V

190. Greer and Ernest Anderson on behalf of Gaston McKinley Julius Anderson, Stone Mountain, Georgia, Court of Federal Claims Number 03-0221V

191. Karen and Robert Kolacinski on behalf of Bailey Kolacinski, Vienna, Virginia, Court of Federal Claims Number 03-0222V

192. Jason Wang on behalf of Eric Wang, Boston, Massachusetts, Court of Federal Claims Number 03-0223V

193. Lori Custer on behalf of Dustin Custer, Boston, Massachusetts, Court of Federal Claims Number 03-0224V

194. Kara Travis on behalf of Colton James Travis, Boston, Massachusetts, Court of Federal Claims Number 03-0225V

195. Andrea Mays on behalf of Justin Mays, Boston, Massachusetts, Court of Federal Claims Number 03-0226V

196. James Stimpl on behalf of Michael Stimpl, Boston, Massachusetts, Court of Federal Claims Number 03-0227V

197. Melinda Robson on behalf of Blake Robson, Boston, Massachusetts, Court of Federal Claims Number 03-0228V

198. Betty Mingo on behalf of Derrien Mingo, Boston, Massachusetts, Court of Federal Claims Number 03-0229V

199. Raymond Laspada on behalf of Bianca Laspada, Boston, Massachusetts, Court of Federal Claims Number 03-0230V

200. Curtis Winn on behalf of Chase Winn, Boston, Massachusetts, Court of Federal Claims Number 03-0231V

201. Nassiby Carter-Desjardins on behalf of Danielle Desjardins, Boston, Massachusetts, Court of Federal Claims Number 03-0232V

202. Kathleen Skotnicki on behalf of Nathan Skotnicki, Boston, Massachusetts, Court of Federal Claims Number 03-0233V

203. Kathleen Stapleford on behalf of Devon Stapleford, Boston, Massachusetts, Court of Federal Claims Number 03-0234V

204. Cynthia Cano on behalf of Isaac Cano, Boston, Massachusetts, Court of Federal Claims Number 03-0235V

205. Maryanne Nugent on behalf of Andrew Nugent, Boston, Massachusetts, Court of Federal Claims Number 03-0236V

206. Laura Craig on behalf of Christian Cook, Boston, Massachusetts, Court of Federal Claims Number 03-0237V

207. Jennifer Kinne on behalf of Isaac Kinne, Boston, Massachusetts, Court of Federal Claims Number 03-0238V

208. Barbara and Franklin Bollettieri on behalf of Spencer Bollettieri, New York, New York, Court of Federal Claims Number 03-0239V

209. Elayne Carnegie on behalf of Ryan Scanlon, New York, New York, Court of Federal Claims Number 03-0240V

210. Shahran and Soosan Amiri on behalf of Mehrob Som Amiri, Melbourne, Florida, Court of Federal Claims Number 03-0241V

211. Shahran and Soosan Amiri on behalf of Shahzad Amiri, Melbourne, Florida, Court of Federal Claims Number 03-0242V

212. Kim and Dean Falsey on behalf of Chelsea Falsey, Miami, Florida, Court of Federal Claims Number 03-0243V

213. Paula and Ivor Levy on behalf of Matthew Levy, Miami, Florida, Court of Federal Claims Number 03-0244V

214. Kelly Johnson on behalf of Olivia Johnson, Boston, Massachusetts, Court of Federal Claims Number 03-0246V

215. Stacy and John Tollefson on behalf of Dakota Tollefson, Great Neck, New York, Court of Federal Claims Number 03-0247V

216. Toni and Pat Webb on behalf of Patrick Avery Webb, Dallas, Texas, Court of Federal Claims Number 03-0248V

217. Shannon Peoples on behalf of Stefvon L. Thomas, Dallas, Texas, Court of Federal Claims Number 03-0249V

218. Mary and Scott Finke on behalf of Nathaniel J. Finke, Melbourne, Florida, Court of Federal Claims Number 03-0250V

219. Cindy L. Wyant, Illiamna, Arkansas, Court of Federal Claims Number 03-0251V

220. Natasha Oligario on behalf of Elijah Carroll, Boston, Massachusetts, Court of Federal Claims Number 03-0253V

221. Shannon Taylor on behalf of Kaitlyn Taylor, Boston, Massachusetts, Court of Federal Claims Number 03-0254V

222. Lisa Courey on behalf of Michael Courey, Boston, Massachusetts, Court of Federal Claims Number 03-0255V

223. Dawn Moriarty on behalf of Matthew Moriarty, Boston, Massachusetts, Court of Federal Claims Number 03-0256V

224. Dawn Moriarty on behalf of Timothy Moriarty, Boston, Massachusetts, Court of Federal Claims Number 03-0257V

225. Assad Wahdat on behalf of Meelad Wahdat, Boston, Massachusetts, Court of Federal Claims Number 03-0258V

226. Kelli Lysz on behalf of Alexander Lysz, Boston, Massachusetts, Court of Federal Claims Number 03-0259V

227. Katrina Blanchard on behalf of Mackenzie Blanchard, Boston, Massachusetts, Court of Federal Claims Number 03-0260V

228. Shree and James Catapano on behalf of Allan Frazier Catapano, Dallas, Texas, Court of Federal Claims Number 03-0261V

229. Jill and Gonzalo Martinez on behalf of Sanitago Martinez, Dallas, Texas, Court of Federal Claims Number 03-0262V

230. Cherise and Walter Adams on behalf of Kayla Adams, Chicago, Illinois, Court of Federal Claims Number 03-0263V

231. Kelly Strzalkowski on behalf of Matthew Strzalkowski, Boston, Massachusetts, Court of Federal Claims Number 03-0266V

232. Staci and Michael Weaver on behalf of Joshua Weaver, Jacksonville, Florida, Court of Federal Claims Number 03-0267V

233. Joyce and Patrick Melker on behalf of Alexander Patrick Howard Melker, Fall River, Massachusetts, Court of Federal Claims Number 03-0268V

234. Sara and Christopher Bowen on behalf of Evan Christopher Bowen, Phoenix, Arizona, Court of Federal Claims Number 03-0269V

235. Elpida and Harry Karas on behalf of Paul Anthony Karas, Elgin, Illinois, Court of Federal Claims Number 03-0270V

236. Dawn Miller on behalf of Benjamin Miller, Glenmont, New York, Court of Federal Claims Number 03-0274V

237. Debora DelValle on behalf of Joshua N. DelValle, Tampa, Florida, Court of Federal Claims Number 03-0275V

238. Cecilia and Issac Lemon on behalf of Drake Issac Lemon, Houston, Texas, Court of Federal Claims Number 03-0276V

239. Debra and Raymond Ricci on behalf of Alexander James Ricci, Houston, Texas, Court of Federal Claims Number 03-0277V

240. Tammie Jenkins on behalf of Jeremiah James Jenkins, Houston, Texas, Court of Federal Claims Number 03-0278V

241. Barbara and Christopher Schmelzer on behalf of Samuel Schmelzer, Houston, Texas, Court of Federal Claims Number 03-0279V

242. Farida and Adib Yousofi on behalf of David Masseullah Yousofi, Houston, Texas, Court of Federal Claims Number 03-0280V

243. Misty and Jay Work on behalf of Anthony James Work, Dickson, Tennessee, Court of Federal Claims Number 03-0281V

244. Shannon Dennison and Darin Washington on behalf of Derron Ebon Washington, Bel Air, Maryland, Court of Federal Claims Number 03-0282V

245. Jami and Christopher Nelson on behalf of River Gene White, Denton, Texas, Court of Federal Claims Number 03-0283V

246. Maria and Garry Lund on behalf of Kyle Christopher Lund, Dallas, Texas, Court of Federal Claims Number 03-0284V

247. Amy and William Talley on behalf of Harrison Talley, Miami, Florida, Court of Federal Claims Number 03-0285V

248. Denise and John Gormley on behalf of Matthew Gormley, Philadelphia, Pennsylvania, Court of Federal Claims Number 03-0286V

249. Cindy and John Barkowski on behalf of John R. Barkowski, Schenectady, New York, Court of Federal Claims Number 03-0292V

250. Lisa and Todd Lippincott on behalf of Kevin Lippincott, New York, New York, Court of Federal Claims Number 03-0293V

251. Douglas White on behalf of Austin James White, Cape Girardeau, Missouri, Court of Federal Claims Number 03-0294V

252. Tonya L. Jarvis, Washington, DC, Court of Federal Claims Number 03-0295V

253. Debbie and Sam Schwartz on behalf of Haley Elizabeth Schwartz, Salisbury, North Carolina, Court of Federal Claims Number 03-0297V

254. James Bates on behalf of Jacob Bates, Tyler, Texas, Court of Federal Claims Number 03-0298V

255. Laura and Michael Brosofsky on behalf of Grace Brosofosky, Lawrenceville, Georgia, Court of Federal Claims Number 03-0299V

256. Allison and James Gozzo on behalf of Isabella Gozzo, New York, New York, Court of Federal Claims Number 03-0300V

257. Robyn and Kevin Carter on behalf of Avery Quinn Carter, Florence, Alabama, Court of Federal Claims Number 03-0301V

258. Laurie Colabelli on behalf of Zachary W. Kilmer, Rensselaer, New York, Court of Federal Claims Number 03-0302V

259. Desiree and Troy Feliciano on behalf of Isaiah Feliciano, New York, New York, Court of Federal Claims Number 03-0303V

260. Christine and Thomas Prendergast on behalf of Dylan Prendergast, New York, New York, Court of Federal Claims Number 03-0304V

261. Ruth McCommon, Peachtree City, Georgia, Court of Federal Claims Number 03-0305V

262. Valerie and William Boergesson on behalf of Alexander Boergesson, Houston, Texas, Court of Federal Claims Number 03-0307V

263. Susan and Peter Pruyn on behalf of Thomas Pruyn, Houston, Texas, Court of Federal Claims Number 03-0308V

264. Ursula and John Zettlemoyer on behalf of Melanie Zettlemoyer, Houston, Texas, Court of Federal Claims Number 03-0309V

265. Cheryl and Clifford Bost on behalf of Roy Bost, Houston, Texas, Court of Federal Claims Number 03-0310V

266. Brenda and Bill Shepard on behalf of Gage Shepard, Houston, Texas, Court of Federal Claims Number 03-0311V

267. Judith and Kevan Braun on behalf of Kevin Braun, Houston, Texas, Court of Federal Claims Number 03-0312V

268. Melinda and Michael Hanna on behalf of Heather Hanna, Houston, Texas, Court of Federal Claims Number 03-0313V

269. Susan and Peter Pruyn on behalf of Samuel Pruyn, Houston, Texas, Court of Federal Claims Number 03-0314V

270. Donna and Douglas Bernard on behalf of Matthew Bernard, Houston, Texas, Court of Federal Claims Number 03-0315V

271. Lisa and Patrick Wayman on behalf of Noah Wayman, Houston, Texas, Court of Federal Claims Number 03-0316V

272. Alecia and Steven Schaller on behalf of Asher N. Travilian, Houston, Texas, Court of Federal Claims Number 03-0317V

273. Nancy and Lawrence Munoz on behalf of Nicholas Munoz, Alexandria, Virginia, Court of Federal Claims Number 03-0318V

274. Kristy Bergo on behalf of Kyle Bergo, Boston, Massachusetts, Court of Federal Claims Number 03-0319V

275. Teresa Tucker on behalf of Cameron Tucker, Boston, Massachusetts, Court of Federal Claims Number 03-0320V

276. Brenda Clark on behalf of Mason Clark, Boston, Massachusetts, Court of Federal Claims Number 03-0321V

277. Tanya Dethouars-Cosgrove on behalf of Kyle Cosgrove, Boston, Massachusetts, Court of Federal Claims Number 03-0322V

278. Christina Snow on behalf of Tamara Snow, Boston, Massachusetts, Court of Federal Claims Number 03-0323V

279. Sylvia Deanda on behalf of John Deanda, Boston, Massachusetts, Court of Federal Claims Number 03-0324V

280. Cheryl Lloyd on behalf of Aliyah Lloyd, Boston, Massachusetts, Court of Federal Claims Number 03-0325V

281. Leah Skinner on behalf of Shane Skinner, Boston, Massachusetts, Court of Federal Claims Number 03-0326V

282. Robyn Crompton on behalf of Hunter Crompton, Boston, Massachusetts, Court of Federal Claims Number 03-0327V

283. Tina Marascia on behalf of Robert Lewis, III, Boston, Massachusetts, Court of Federal Claims Number 03-0328V

284. Denise Ogle on behalf of Chance Ogle, Boston, Massachusetts, Court of Federal Claims Number 03-0329V

285. Nadine Winters on behalf of Charles Winters, Boston, Massachusetts, Court of Federal Claims Number 03-0330V

286. Carolann Zielinski on behalf of Michael Zielinski, Boston, Massachusetts, Court of Federal Claims Number 03-0331V

287. Susan Tellechea on behalf of Daniel Loney, Boston, Massachusetts, Court of Federal Claims Number 03-0332V

288. Shirley Baker on behalf of Caitlin Baker, Boston, Massachusetts, Court of Federal Claims Number 03-0333V

289. Kimberly Robinson on behalf of Hunter Robinson, Boston, Massachusetts, Court of Federal Claims Number 03-0334V

290. Richard Rex on behalf of Michael Rex, Boston, Massachusetts, Court of Federal Claims Number 03-0335V

291. Sonya Quaterman on behalf of De'Andre Quarterman, Boston, Massachusetts, Court of Federal Claims Number 03-0336V

292. Christina McDermott on behalf of Jacob Brown, Boston, Massachusetts, Court of Federal Claims Number 03-0337V

293. Dana Schoenfeld on behalf of Hunter Schoenfeld, Boston, Massachusetts, Court of Federal Claims Number 03-0338V

294. Tina Martin on behalf of Alexander Bonds, Boston, Massachusetts, Court of Federal Claims Number 03-0339V

295. Tara Rhetta on behalf of Ryan Rhetta, Boston, Massachusetts, Court of Federal Claims Number 03-0341V

296. Corey Williams on behalf of Victoria Williams, Boston, Massachusetts, Court of Federal Claims Number 03-0342V

297. Gina and Michael Giordano on behalf of Michael Giordano, New York, New York, Court of Federal Claims Number 03-0343V

298. Selena and James Yagey on behalf of Alec James Yagey, Melbourne, Florida, Court of Federal Claims Number 03-0344V

299. Brooke and Timothy Schwab on behalf of Atlee Schwab, Baltimore, Maryland, Court of Federal Claims Number 03-0345V

300. Wendy and Alan Tucker on behalf of Matthew Tucker, Philadelphia, Pennsylvania, Court of Federal Claims Number 03-0346V

301. Tammi Perricci Pinkley on behalf of Devin Perricci, Baltimore, Maryland, Court of Federal Claims Number 03-0347V

302. Angela and Scott Finet on behalf of Eric Shaw Finet, Vienna, Virginia, Court of Federal Claims Number 03-0348V

303. Nicole Shaffer, Meadville, Pennsylvania, Court of Federal Claims Number 03-0349V,

304. Madeline Wilk, Vienna, Virginia, Court of Federal Claims Number 03-0350V

305. Howard Gordon on behalf of Elijah Gordon, Vienna, Virginia, Court of Federal Claims Number 03-0351V

306. Sharon Faulk on behalf of Ryan E. Faulk, Melbourne, Florida, Court of Federal Claims Number 03-0353V

307. Sharon Faulk on behalf of Andrew L. Faulk, Melbourne, Florida, Court of Federal Claims Number 03-0354V

308. Ramona and Peter Loutos on behalf of Peter A. Loutos, II, Melbourne, Florida, Court of Federal Claims Number 03-0355V

309. April and James Shearin on behalf of Charles Shearin, Great Neck, New York, Court of Federal Claims Number 03-0356V

310. Robin Cline on behalf of Aaron Michael Rothrock, Great Neck, New York, Court of Federal Claims Number 03-0357V

311. Suzanne Kosse on behalf of Ilexis Kosse, Great Neck, New York, Court of Federal Claims Number 03-0358V

312. Krystal and Christopher Davis on behalf of Gabrielle Davis, Great Neck, New York, Court of Federal Claims Number 03-0359V

313. Tonya and Shawn Goss on behalf of Chloe Goss, Great Neck, New York, Court of Federal Claims Number 03-0360V

314. Aimee Ward on behalf of Jayden Hardway, Great Neck, New York, Court of Federal Claims Number 03-0361V

315. Loretta and James Smith on behalf of Lancelot Smith, Great Neck, New York, Court of Federal Claims Number 03-0362V

316. Heather and Brooke Walton on behalf of Sara Walton, Great Neck, New York, Court of Federal Claims Number 03-0363V

317. Theresa and James Roberts on behalf of James Roberts, Jr., Great Neck, New York, Court of Federal Claims Number 03-0364V

318. Dionne Dunham on behalf of Devin Dunham, Great Neck, New York, Court of Federal Claims Number 03-0365V

319. Angela and Ken Riederman on behalf of Mary Beth Riederman, Great Neck, New York, Court of Federal Claims Number 03-0366V

320. Jamie and Antonio Bautista on behalf of Joshua Bautista, Great Neck, New York, Court of Federal Claims Number 03-0367V

321. Michelle and Melvin Nichols on behalf of Melvin Nichols, Great Neck, New York, Court of Federal Claims Number 03-0368V

322. Michelle Peterson and Thanh Guinan on behalf of Tyler Guinan, Great Neck, New York, Court of Federal Claims Number 03-0369V

323. Laura Simonetti on behalf of Michael Joseph Castellano, Great Neck, New York, Court of Federal Claims Number 03-0370V

324. Niladri and Ruma Chatterjee on behalf of Chris Chatterjee, Great Neck, New York, Court of Federal Claims Number 03-0371V

325. Joan and Shane Steckelberg on behalf of Lydia Steckelberg, Great Neck, New York, Court of Federal Claims Number 03-0372V

326. Vanessa Citriglia on behalf of Orion Citriglia, Boston, Massachusetts, Court of Federal Claims Number 03-0373V

327. Dawn Gregor on behalf of Noah Gregor, Boston, Massachusetts, Court of Federal Claims Number 03-0374V

328. Betsy Spaeth on behalf of Brandon Spaeth, Boston, Massachusetts, Court of Federal Claims Number 03-0375V

329. Julia Krumlauf on behalf of Ethan Krumlauf, Boston, Massachusetts, Court of Federal Claims Number 03-0376V

330. Lynn Wagner on behalf of Timothy Wagner, Boston, Massachusetts, Court of Federal Claims Number 03-0377V

331. Lynn Wagner on behalf of Ian Wagner, Boston, Massachusetts, Court of Federal Claims Number 03-0378V

332. John Poulin on behalf of Cameron Poulin, Boston, Massachusetts, Court of Federal Claims Number 03-0379V

333. Carole Hahn on behalf of Andrew Hahn, Boston, Massachusetts, Court of Federal Claims Number 03-0380V

334. Vincent Lovenduski on behalf of Austin Lovenduski, Boston, Massachusetts, Court of Federal Claims Number 03-0381V

335. Wendy Weitkemper on behalf of Quinn Weitkemper, Boston, Massachusetts, Court of Federal Claims Number 03-0382V

336. Yvonne Barrett-Furbee & James W. Furbee, Jr. on behalf of Nicholas James Barrett-Furbee, Winston-Salem, North Carolina, Court of Federal Claims Number 03-0383V

337. Karen Tribble on behalf of Zarek James Anthony, Gastonia, Georgia, Court of Federal Claims Number 03-0384V

338. Vanessa Fleming on behalf of Jamario Phipps, Houston, Texas, Court of Federal Claims Number 03-0385V

339. Yvonne Johnson on behalf of Da'Quida Patten, Houston, Texas, Court of Federal Claims Number 03-0386V

340. Paula Thompson and Graig Odems on behalf of Tawandelin Williams, Houston, Texas, Court of Federal Claims Number 03-0387V

341. Giselle Escobar on behalf of Kaivon Behbehani-Escobar, Portland, Oregon, Court of Federal Claims Number 03-0388V

342. Anthony Williams on behalf of Tyler Williams, Portland, Oregon, Court of Federal Claims Number 03-0389V

343. Andrea Schreiber on behalf of Macmilliam Schreiber, Portland, Oregon, Court of Federal Claims Number 03-0390V

344. Jody Ringman on behalf of Dion Moody, Portland, Oregon, Court of Federal Claims Number 03-0391V

345. Jamie Hahn on behalf of Page Novotny, Portland, Oregon, Court of Federal Claims Number 03-0392V

346. Lisa Crawford on behalf of Collin Crawford, Portland, Oregon, Court of Federal Claims Number 03-0393V

347. Kathleen and Joseph Buff on behalf of Kelly F. Buff, Altamont, New York, Court of Federal Claims Number 03-0394V

348. Jennifer and Michael Goodwin on behalf of Joshua Dale Goodwin, Dallas, Texas, Court of Federal Claims Number 03-0395V

349. Michelle and Donald Horst on behalf of Isaiah David Horst, New York, New York, Court of Federal Claims Number 03-0396V

350. Toan “Mike” Nguyen on behalf of Brian Nguyen, Houston, Texas, Court of Federal Claims Number 03-0397V

351. Rebecca Christoffer on behalf of Peyton Christoffer, Minneapolis, Minnesota, Court of Federal Claims Number 02-0398V

352. Christine and Steven Wiley on behalf of Jacob Wiley, Ferndale, Michigan, Court of Federal Claims Number 03-0399V

353. Melissa and Donald Bryant on behalf of Ryan A. Bryant, Alexandria, Virginia, Court of Federal Claims Number 03-0408V

354. Shadiya and Moulay Patton-Bey on behalf of Ilyas Patton-Bey, Alexandria, Virginia, Court of Federal Claims Number 03-0409V

355. Yvette and Kevin Ohree on behalf of Jordan P. Ohree, Alexandria, Virginia, Court of Federal Claims Number 03-0410V

356. Temeka and Antoine Moss on behalf of Antoine Moss, Jr., Alexandria, Virginia, Court of Federal Claims Number 03-0411V

357. Julie and Gary Mitchum on behalf of Douglas Edward Mitchum, Melbourne, Florida, Court of Federal Claims Number 03-0414V

358. Monique Leroux-Bice and Trevor Bice on behalf of John-Paul Leroux-Bice, Melbourne, Florida, Court of Federal Claims Number 03-0415V

359. Dorothy Owen Powell on behalf of Trevor Wyatt Powell, Falkville, Alabama, Court of Federal Claims Number 03-0416V

360. Dorothy Owen Powell on behalf of Matthew Drake Powell, Falkville, Alabama, Court of Federal Claims Number 03-0417V

361. Stephanie Pearson on behalf of Sydnie Grace Pearson, Fort Smith, Arkansas, Court of Federal Claims Number 03-0418V

362. Missy Smith on behalf of Tanya Smith, Vienna, Virginia, Court of Federal Claims Number 03-0423V

363. Joyce Dooley-Rodriguez and Pedro J. Rodriguez on behalf of John Brooks Rodriguez, Hallandale Beach, Florida, Court of Federal Claims Number 03-0424V

364. Carolyn and Joseph Thurmond on behalf of Sarah Rose Thurmond, Sarasota, Florida, Court of Federal Claims Number 03-0425V

365. Evelyn O'Neill-Torres and Jose Torres on behalf of Jonathan David Torres, Melbourne, Florida, Court of Federal Claims Number 03-0426V

366. Leslie and Ronald Giroux on behalf of Graham Giroux, Great Neck, New York, Court of Federal Claims Number 03-0427V

367. Lisa and Michael Bonsignore on behalf of Michael Bonsignore, Great Neck, New York, Court of Federal Claims Number 03-0428V

368. Heather and Bryan Cogan on behalf of Kurren Cogan, Great Neck, New York, Court of Federal Claims Number 03-0429V

369. Jennifer Nelson on behalf of Samuel Nelson, Portland, Oregon, Court of Federal Claims Number 03-0430V

370. Tracy Knight on behalf of Taylor M. Knight, Portland, Oregon, Court of Federal Claims Number 03-0431V

371. Terri Jefferies on behalf of Jared Jefferies, Portland, Oregon, Court of Federal Claims Number 03-0432V

372. Loretta Reagan on behalf of Kyleyeah Reagan, Portland, Oregon, Court of Federal Claims Number 03-0433V

373. Marie Roarks on behalf of Anthony Roarks, Portland, Oregon, Court of Federal Claims Number 03-0434V

374. Tammy Cervenka on behalf of Thomas Webber, Portland, Oregon, Court of Federal Claims Number 03-0435V

375. Angela and Gary Fennern on behalf of Macayla Rose Herron, Pensacola, Florida, Court of Federal Claims Number 03-0436V

376. Maryann and Peter Panariello on behalf of Danny Panarielllo, New York, New York, Court of Federal Claims Number 03-0437V

377. Vanessa and Kevin Brink on behalf of Samuel A. Brink, Dallas, Texas, Court of Federal Claims Number 03-0438V

378. Bert Cox on behalf of Allison Cox, Concord, New Hampshire, Court of Federal Claims Number 03-0440V

379. Rosa and Thomas Jawski on behalf of Thomas Louis Jawski, New York, New York, Court of Federal Claims Number 03-0443V

380. Virginia Blair on behalf of Preston Blair, Boston, Massachusetts, Court of Federal Claims Number 03-0447V

381. Robin Hubbell on behalf of Aaron Rothrock, Boston, Massachusetts, Court of Federal Claims Number 03-0448V

382. Deena Licht on behalf of Jacob Licht, Boston, Massachusetts, Court of Federal Claims Number 03-0449V

383. Anne Pessetto on behalf of Amanda Pessetto, Boston, Massachusetts, Court of Federal Claims Number 03-0451V

384. Gordon Downie on behalf of Gordon Downie, Jr., Boston, Massachusetts, Court of Federal Claims Number 03-0452V

385. Joyce Tesaker on behalf of Thomas Bordino, Boston, Massachusetts, Court of Federal Claims Number 03-0453V

386. Robyn Shepherd on behalf of Taylor Shepherd, Boston, Massachusetts, Court of Federal Claims Number 03-0454V

387. Lorenzo Brandon on behalf of Lloyd Brandon, Boston, Massachusetts, Court of Federal Claims Number 03-0455V

388. Tonya Haynes on behalf of Tyler Haynes, Boston, Massachusetts, Court of Federal Claims Number 03-0456V

389. Kimberly Wood on behalf of Jonathon Wood, Boston, Massachusetts, Court of Federal Claims Number 03-0457V

390. Maxine Denise Poole on behalf of Adam J. Poole, Alexandria, Virginia, Court of Federal Claims Number 03-0458V

391. Renee and Frederick Henderson on behalf of Nasya R. Henderson, Alexandria, Virginia, Court of Federal Claims Number 03-0459V

392. Teresa and Joseph Turowski on behalf of Kevin Turowski, Alexandria, Virginia, Court of Federal Claims Number 03-0460V

393. Nancy and Lawrence Munoz on behalf of Megan Munoz, Alexandria, Virginia, Court of Federal Claims Number 03-0461V

394. Anne Pessetto on behalf of Roger Pessetto, Boston, Massachusetts, Court of Federal Claims Number 03-0463V

395. Rosa and Gregory James on behalf of Gregory C.A. James, Jr., Eufaula, Alabama, Court of Federal Claims Number 03-0466V

396. Waira Berroa on behalf of Rodrigo Berroa, Boston, Massachusetts, Court of Federal Claims Number 03-0467V

397. Kerry and Robert Bloch on behalf of David Joseph Bloch, Jacksonville, Florida, Court of Federal Claims Number 03-0468V

398. Jolene Bevelacqua on behalf of James Charles Bevalacqua, New York, New York, Court of Federal Claims Number 03-0469V

399. Heather Wise on behalf of Connor Wilson, Boston, Massachusetts, Court of Federal Claims Number 03-0472V

400. Robert Smith on behalf of Andre Smith, Boston, Massachusetts, Court of Federal Claims Number 03-0473V

401. Tammy Maher on behalf of McGuire Maher, Boston, Massachusetts, Court of Federal Claims Number 03-0474V

402. Margaret Neelsen on behalf of Ryan Neelsen, Boston, Massachusetts, Court of Federal Claims Number 03-0475V

403. Chanta Howard on behalf of Alala Howard, Boston, Massachusetts, Court of Federal Claims Number 03-0476V

404. Twila Waters on behalf of Sean Waters, Boston, Massachusetts, Court of Federal Claims Number 03-0477V

405. Seth Ross on behalf of Dylan Ross, Boston, Massachusetts, Court of Federal Claims Number 03-0478V

406. Rachel Fulgencio on behalf of Drake Fulgencio, Boston, Massachusetts, Court of Federal Claims Number 03-0479V

407. Nikki Reavie on behalf of Wyatt Reavie, Boston, Massachusetts, Court of Federal Claims Number 03-0480V

408. Tyler Felix on behalf of Elizabeth Rodrigues, Deceased, Boston, Massachusetts, Court of Federal Claims Number 03-0481V

409. Mary Kay Carroll on behalf of Patrick Carroll, Boston, Massachusetts, Court of Federal Claims Number 03-0482V

410. Tracy Williams on behalf of Katrina Williams, Martinsville, Indiana, Court of Federal Claims Number 03-0485V

411. Jennifer and Dan Olson on behalf of George Olson, Minneapolis, Minnesota, Court of Federal Claims Number 03-0486V

412. Diana and Tilghman Turner on behalf of Tilghman Anderson Turner, Grant, Alabama, Court of Federal Claims Number 03-0487V

413. Cheryl and James Hoffman on behalf of Sara E. Hoffman, Oxford, Ohio, Court of Federal Claims Number 03-0488V

414. Kami and John Olmstead on behalf of Jonah M. Olmstead, Rock Island, Illinois, Court of Federal Claims Number 03-0491V

415. Esmeralda and Wilford Shriver on behalf of Nolan Bryce Shriver, Houston, Texas, Court of Federal Claims Number 03-0492V

416. Cheryl and Andrew Christopherson on behalf of Michael Christopherson, Alexandria, Virginia, Court of Federal Claims Number 03-0493V

417. Gladys Minor on behalf of Keiona Murray, Alexandria, Virginia, Court of Federal Claims Number 03-0494V

418. Lorraine Nutt on behalf of Thomas J. Nutt, Alexandria, Virginia, Court of Federal Claims Number 03-0495V

419. Kimberly and Thomas Blevins on behalf of Cody Blevins, Muncie, Indiana, Court of Federal Claims Number 03-0496V

420. Anissa and Robert Ryland on behalf of Nicholas Wilson Ryland, Dallas, Texas, Court of Federal Claims Number 03-0497V

421. Rachelle and Troy Potter on behalf of Trenton Dean Potter, Dallas, Texas, Court of Federal Claims Number 03-0498V

422. Charity and Dave Christman on behalf of Faith Ashley Christman, Dallas, Texas, Court of Federal Claims Number 03-0499V

423. Ernestina and Abel Gonzalez on behalf of Josue Gonzalez, Dallas, Texas, Court of Federal Claims Number 03-0500V

424. Linda and Johnny Black on behalf of Elizabeth Black, Dallas, Texas, Court of Federal Claims Number 03-0501V

425. Carla and Eric Blaha on behalf of Christopher Blaha, Dallas, Texas, Court of Federal Claims Number 03-0502V

426. Bridgette Donison on behalf of Nia Donison, Dallas, Texas, Court of Federal Claims Number 03-0503V

427. Risa and Charles Bently on behalf of John Harrison Bently, Dallas, Texas, Court of Federal Claims Number 03-0504V

428. Latisha Simpson Moore on behalf of Jasmine Moore, Portland, Oregon, Court of Federal Claims Number 03-0505V

429. Hans Rosenberg on behalf of Hans Rosenberg, Jr., Portland, Oregon, Court of Federal Claims Number 03-0506V

430. Lisa and Frank McKinney on behalf of Kennedy McKinney, Portland, Oregon, Court of Federal Claims Number 03-0507V

431. Carol and Charles Heinz on behalf of Brandon Heinz, Houston, Texas, Court of Federal Claims Number 03-0508V

432. Beverlee and Jeffrey Peters on behalf of Avery Peters, Houston, Texas, Court of Federal Claims Number 03-0509V

433. Annette Hubbs on behalf of Joseph Hubbs, Houston, Texas, Court of Federal Claims Number 03-0510V

434. Stormy Lester on behalf of Cameron Lester, Houston, Texas, Court of Federal Claims Number 03-0511V

435. Gina and Richard Mouser on behalf of Eric Mouser, Houston, Texas, Court of Federal Claims Number 03-0512V

436. Paula Sessing on behalf of Sean Sessing, Houston, Texas, Court of Federal Claims Number 03-0513V

437. William K. Stewart on behalf of William Stewart, Houston, Texas, Court of Federal Claims Number 03-0514V

438. Terri Reid on behalf of Joseph Willis, Houston, Texas, Court of Federal Claims Number 03-0515V

439. Alisha and Wilbert Gibson on behalf of Jabari Gibson, Houston, Texas, Court of Federal Claims Number 03-0516V

440. Julie and John Stackpole on behalf of John Stackpole, Jr., Houston, Texas, Court of Federal Claims Number 03-0517V

441. Kelley and Luis Tijero on behalf of Luis Tijero, Jr., Houston, Texas, Court of Federal Claims Number 03-0518V

442. Margaret and Daniel Kivumbi on behalf of Daniel Kivumbi, Jr., Houston, Texas, Court of Federal Claims Number 03-0519V

443. Heather and Lennox Carty on behalf of Stevyn Carty, Houston, Texas, Court of Federal Claims Number 03-0520V

444. Dianna and Monte Cunningham on behalf of Caryson Cunningham, Houston, Texas, Court of Federal Claims Number 03-0521V

445. David Adams on behalf of Michael Adams, Houston, Texas, Court of Federal Claims Number 03-0522V

446. Annette and Gerald Lichtenstein on behalf of Ivan Lichtenstein, Houston, Texas, Court of Federal Claims Number 03-0523V

447. Vickie and Brian Hilverding on behalf of Noah Hilverding, Houston, Texas, Court of Federal Claims Number 03-0524V

448. Maria and Robert Brock on behalf of Christopher Brock, Houston, Texas, Court of Federal Claims Number 03-0525V

449. Tina and Jamie Scarbro on behalf of Trevor Scarbro, Houston, Texas, Court of Federal Claims Number 03-0526V

450. Claire and Michael Mullen on behalf of William Mullen, Houston, Texas, Court of Federal Claims Number 03-0527V

451. Kimberly and Lance Erickson on behalf of Hunter T. Erickson, Houston, Texas, Court of Federal Claims Number 03-0528V

452. Jeffrey Wolfson on behalf of Richard M. Wolfson, Melbourne, Florida, Court of Federal Claims Number 03-0529V

453. Christina and Tim Beaudrie on behalf of Savannah Beaudrie, Great Neck, New York, Court of Federal Claims Number 03-0530V

454. Kerri and John Carney on behalf of John Carney, Great Neck, New York, Court of Federal Claims Number 03-0531V

455. Jennifer and Richard Volker on behalf of Scott Alexander Volker, Springfield, Massachusetts, Court of Federal Claims Number 03-0532V

456. Beth and James Mortl on behalf of Clayton Mortl, New Berlin, Wisconsin, Court of Federal Claims Number 03-0533V

457. Heather Cogan on behalf of Kurren Cogan, Boston, Massachusetts, Court of Federal Claims Number 03-0534V

458. Lisa Hnath on behalf of Joseph Hnath, Boston, Massachusetts, Court of Federal Claims Number 03-0535V

459. Patricia and Richard Gavigan on behalf of Kristen P. Gavigan, Schenectday, New York, Court of Federal Claims Number 03-0536V

460. Melissa and Shanin Seamons on behalf of Dylan C. Seamons, New Orleans, Louisiana, Court of Federal Claims Number 03-0537V

461. Theresa and Andrew Holloway on behalf of Elijah Holloway, Dallas, Texas, Court of Federal Claims Number 03-0539V

462. Kevin Dass on behalf of Dillon Jacob Dass, Kansas City, Missouri, Court of Federal Claims Number 03-0540V

463. Kevin Dass on behalf of Kyle Steven Dass , Kansas City, Missouri, Court of Federal Claims Number 03-0541V

464. Kimberly Yench on behalf of Nicolas Yench, Lisle, Illinois, Court of Federal Claims Number 03-0542V

465. Paige and Jay Ingrum on behalf of Spencer Mitchell Ingrum, Dallas, Texas, Court of Federal Claims Number 03-0544V

466. Lisa and Dale Willows on behalf of Jacob Willows, Dallas, Texas, Court of Federal Claims Number 03-0545V

467. Carla Lingenfelter on behalf of Cody Lingenfelter, Boston, Massachusetts, Court of Federal Claims Number 03-0546V

468. Glenda O'Dell on behalf of Patrick O'Dell, Boston, Massachusetts, Court of Federal Claims Number 03-0547V

469. Eugene Venable on behalf of Mark Venable, Boston, Massachusetts, Court of Federal Claims Number 03-0548V

470. Lisa Weydert on behalf of Clinton Weydert, Boston, Massachusetts, Court of Federal Claims Number 03-0549V

471. Coralee Howard on behalf of Sierra Howard, Boston, Massachusetts, Court of Federal Claims Number 03-0550V

472. Jackeline Novikov-Carles on behalf of Natasha Carles, Boston, Massachusetts, Court of Federal Claims Number 03-0551V

473. Roxana Lynn Pettit on behalf of Manny Lee Garza, Boston, Massachusetts, Court of Federal Claims Number 03-0552V

474. Maria and George Plunkett on behalf of Nicolas Plunkett, New York, New York, Court of Federal Claims Number 03-0553V

475. Kelly and Steve Flynn on behalf of Alexander Flynn, New York, New York, Court of Federal Claims Number 03-0554V

476. Theresa and Stephen Pirrelli on behalf of Joseph Pirrelli, New York, New York, Court of Federal Claims Number 03-0555V

477. Maryann and Peter Panariello on behalf of Danny Panariello, New York, New York, Court of Federal Claims Number 03-0556V

478. Lori and Mark Taliercio on behalf of Anthony Taliercio, New York, New York, Court of Federal Claims Number 03-0557V

479. Deborah and Thomas Anderson on behalf of Thomas Anderson, New York, New York, Court of Federal Claims Number 03-0558V

480. Julie Riley on behalf of Timothy Riley, Jr., Boston, Massachusetts, Court of Federal Claims Number 03-0561V

481. Dana Stone on behalf of Noah Stone, Boston, Massachusetts, Court of Federal Claims Number 03-0562V

482. Joan and Philip Correale on behalf of Nicholas Correale, New York, New York, Court of Federal Claims Number 03-0563V

483. Stephanie and Kevin McAree on behalf of Dylan McAree, New York, New York, Court of Federal Claims Number 03-0566V

484. Colleen and Bob Dillon on behalf of Cameron Dillon, New York, New York, Court of Federal Claims Number 03-0567V

485. Joie and Michael Lanza on behalf of Anthony Lanza, New York, New York, Court of Federal Claims Number 03-0568V

486. Abigail Turner on behalf of Patrick Turner, New York, New York, Court of Federal Claims Number 03-0569V

487. Stacy and Daniel Zollo on behalf of Daniel Zollo, New York, New York, Court of Federal Claims Number 03-0570V

488. Sharlene and Charles Bedard on behalf of Dylan Bedard, New York, New York, Court of Federal Claims Number 03-0571V

489. Rosanna and Leonard Scandaglia on behalf of Anthony Scandaglia, New York, New York, Court of Federal Claims Number 03-0572V

490. Barrie and Barry Usmana on behalf of Barrie Usmana, New York, New York, Court of Federal Claims Number 03-0573V

491. Renee and Gail Caron on behalf of Tyler J. Caron, Melbourne, Florida, Court of Federal Claims Number 03-0574V

492. Lisa Funderburk on behalf of Nicholas Funderburk, Boston, Massachusetts, Court of Federal Claims Number 03-0577V

493. Mary Brumbaugh on behalf of Dorothy Brumbaugh, Boston, Massachusetts, Court of Federal Claims Number 03-0578V

494. Louann Petrucci-Duane on behalf of Gregory Duane, Boston, Massachusetts, Court of Federal Claims Number 03-0579V

495. Frances and David Langum on behalf of David J. Langum, Jr., Birmingham, Alabama, Court of Federal Claims Number 03-0580V

496. Monica and Blake Sullivan on behalf of Conner Sullivan, Kokomo, Indiana, Court of Federal Claims Number 03-0581V

497. Kim and James Gordon on behalf of Olivia Gordon, Vienna, Virginia, Court of Federal Claims Number 03-0582V

498. Linda Pedraza on behalf of Michael Raphael Pedraza, Dallas, Texas, Court of Federal Claims Number 03-0583V

499. Mylinda and Fred King on behalf of Jordan King, Portland, Oregon, Court of Federal Claims Number 03-0584V

500. Lien Vu and Mark Lindsay on behalf of Lorenzo Lindsay, Portland, Oregon, Court of Federal Claims Number 03-0585V

501. Dianne Doggett and Gary Fagelman on behalf of Augie Fagelman, Portland, Oregon, Court of Federal Claims Number 03-0586V

502. Jacqueline Fowler on behalf of Steven Fowler, Portland, Oregon, Court of Federal Claims Number 03-0587V

503. Christina Emerson on behalf of Kristopher Emerson, Portland, Oregon, Court of Federal Claims Number 03-0588V

504. Diana Cornejo on behalf of Diego Cornejo, Boston, Massachusetts, Court of Federal Claims Number 03-0591V

505. Robert Anderson on behalf of Charles Anderson, Boston, Massachusetts, Court of Federal Claims Number 03-0592V

506. Sabrina Lepre Leva on behalf of Lorenzo Leva, Boston, Massachusetts, Court of Federal Claims Number 03-0593V

507. Rebecca Gleeson on behalf of Anthony Gleeson, Boston, Massachusetts, Court of Federal Claims Number 03-0594V

508. Vallie Naylor on behalf of Jacob Naylor, Boston, Massachusetts, Court of Federal Claims Number 03-0595V

509. Linda Leavy on behalf of Jason Leavy, Boston, Massachusetts, Court of Federal Claims Number 03-0596V

510. Melissa and Michael Robinson on behalf of Martia Rochana Robinson, Richmond, Virginia, Court of Federal Claims Number 03-0597V

511. Kathleen and Richard Hybl on behalf of Patrick Ryan Hybl, Richmond, Virginia, Court of Federal Claims Number 03-0598V

512. Evelyn and Frances Yee on behalf of Jacqueline Frances Yee, Dallas, Texas, Court of Federal Claims Number 03-0599V

513. Karen and Robert Kolacinski on behalf of Taylor Kolacinski, Kennesaw, Georgia, Court of Federal Claims Number 03-0602V

514. Karen and Edward Hiney on behalf of Andrew Hiney, Great Neck, New York, Court of Federal Claims Number 03-0603V

515. Christine and Patrick Mazza on behalf of Anthony Mazza, Great Neck, New York, Court of Federal Claims Number 03-0604V

516. Tamera and Duffy Trotter on behalf of Christopher Ray Trotter, Great Neck, New York, Court of Federal Claims Number 03-0605V

517. Karrie Wallingford on behalf of Jesse Wallingford, Great Neck, New York, Court of Federal Claims Number 03-0606V

518. Andrea Adler on behalf of Shawn Garcia, Great Neck, New York, Court of Federal Claims Number 03-0607V

519. Shirley and Charles McDonald on behalf of Jonah McDonald, Great Neck, New York, Court of Federal Claims Number 03-0608V

520. Kathleen and Kurt O'Donnell on behalf of Conner O'Donnell, Great Neck, New York, Court of Federal Claims Number 03-0609V

521. Megann Reed on behalf of Dylan Richmond, Great Neck, New York, Court of Federal Claims Number 03-0610V

522. Shamecka Sweet on behalf of Nasir Lewis, Great Neck, New York, Court of Federal Claims Number 03-0611V

523. Brenda and Paul Bright on behalf of Zachary O'Neal Bright, Great Neck, New York, Court of Federal Claims Number 03-0612V

524. Margie and Michael Barres on behalf of Brandon Barres, Great Neck, New York, Court of Federal Claims Number 03-0613V

525. Kelly and William Milazzo on behalf of Robert Milazzo, Great Neck, New York, Court of Federal Claims Number 03-0614V

526. Heather and Ryan Smith on behalf of Trevon Smith, Great Neck, New York, Court of Federal Claims Number 03-0615V

527. Karen and Greg Sokolowski on behalf of Adam Sokolowski, Vienna, Virginia, Court of Federal Claims Number 03-0618V

528. Stephanie Sherman on behalf of Cody Hill, Reno, Nevada, Court of Federal Claims Number 03-0619V

529. Adele Quintana De Bazan, Alviso, California, Court of Federal Claims Number 03-0620V

530. Lynn and Wesley Avram on behalf of Paul Avram, New York, New York, Court of Federal Claims Number 03-0621V

531. Laura and Jose Turrubiates on behalf of Eric Turrubiates, San Antonio, Texas, Court of Federal Claims Number 03-0622V

532. Tina Gordon on behalf of Darris J. Gordon, Alexandria, Virginia, Court of Federal Claims Number 03-0624V

533. Morgan and Hugh Leggette on behalf of Kayleigh Hannah Leggette, Alexandria, Virginia, Court of Federal Claims Number 03-0625V

534. Kassandra Standley and Leon Vincente on behalf of Bailey Vicente, Miami, Florida, Court of Federal Claims Number 03-0627V

535. Raschelle and George Theoharris on behalf of Max Theoharris, Bala Cynwyd, Pennsylvania, Court of Federal Claims Number 03-0628V

536. Verna Lisa and Jay Schmel on behalf of Jayson Louis Schmehl, Philadelphia, Pennsylvania, Court of Federal Claims Number 03-0629V

537. Abigail and Joseph Musser on behalf of Jacob Musser, Bala Cynwyd, Pennsylvania, Court of Federal Claims Number 03-0630V

538. Lynne and Alan Boro on behalf of Tyler Boro, Bala Cynwyd, Pennsylvania, Court of Federal Claims Number 03-0631V

539. Lori and Robert Krakow on behalf of Alexander Krakow, Lake Success, New York, Court of Federal Claims Number 03-0632V

540. Lisa and Arnold Schouten on behalf of Matthew Schouten, Lake Success, New York, Court of Federal Claims Number 03-0633V

541. Janice and Daniel Beaham on behalf of Nicky Beahan, Bala Cynwyd, Pennsylvania, Court of Federal Claims Number 03-0634V

542. Joanne Williams on behalf of James Blakeley, Ludowici, Georgia, Court of Federal Claims Number 03-0637V

543. Angelique and William Edelen on behalf of Benjamin Luke Edelen, Salisbury, North Carolina, Court of Federal Claims Number 03-0638V

544. Colleen Bennett on behalf of Preston Bennett, Boston, Massachusetts, Court of Federal Claims Number 03-0639V

545. Kristen Falenski on behalf of Zachary Falenski, Boston, Massachusetts, Court of Federal Claims Number 03-0640

546. Robert Snyder on behalf of Adam Snyder, Boston, Massachusetts, Court of Federal Claims Number 03-0641V

547. Kimberly Hipps on behalf of Branson Hipps, Boston, Massachusetts, Court of Federal Claims Number 03-0642V

548. Chadd Wickert on behalf of Chase Wickert, Boston, Massachusetts, Court of Federal Claims Number 03-0643V

549. Michelle and Anthony Spalla on behalf of Nicholas Rocco Spalla, Palos Heights, Illinois, Court of Federal Claims Number 03-0644V

550. Linda and Melville Jones on behalf of Tatyana Noel Jones, Philadelphia, Pennsylvania, Court of Federal Claims Number 03-0645V

551. Rosa and Peter Joseph Scala on behalf of Peter John Scala, Lake Success, New York, Court of Federal Claims Number 03-0648V

552. Linda and Bruce Gavin on behalf of Jacob Bruce Gavin, Houston, Texas, Court of Federal Claims Number 03-0649V

553. Dollie Smith on behalf of Miracle Dollie Smith, Houston, Texas, Court of Federal Claims Number 03-0650V

554. Penny and Neville Travillon on behalf of Kejoni Amari Singleton, Houston, Texas, Court of Federal Claims Number 03-0651V

555. Susan Jones on behalf of Joshua Gaylon Jones, Houston, Texas, Court of Federal Claims Number 03-0652V

556. Harriett Gibbons and Charles Hoover on behalf of Leonard Hoover, Miami, Florida, Court of Federal Claims Number 03-0653V

557. Angela and Rolf Hazelhurst on behalf of William Yates Hazelhurst, Twin Falls, Idaho, Court of Federal Claims Number 03-0654V

558. Rena Riccardi-Hurley and Paul Hurley on behalf of Stephanie Rose Hurley, New York, New York, Court of Federal Claims Number 03-0655V

559. Gerri and John McGaha on behalf of Zachary L. McGaha, Marbury, Alabama, Court of Federal Claims Number 03-0656V

560. Lisa Attenazio on behalf of Ajay Attenazio, Dover, New Hampshire, Court of Federal Claims Number 03-0657V

561. Catherine and Steven DiGuilio on behalf of Amanda DiGuilio, Pembroke Pines, Florida, Court of Federal Claims Number 03-0659V

562. Nancy and Raymond Pate on behalf of Marissa Elizabeth Pate, Indianapolis, Indiana, Court of Federal Claims Number 03-0660V

563. Victoria and Richard Emery on behalf of Jake Emery, Indianapolis, Indiana, Court of Federal Claims Number 03-0661V

564. Monica and Adam Singer on behalf of Spencer Paul Singer, Nanuet, New York, Court of Federal Claims Number 03-0662V

565. Tracy and Erle Murphy on behalf of Nehiemiah Fredrick Murphy, Houston, Texas, Court of Federal Claims Number 03-0663V

566. Natalie and Anthony Richard on behalf of Emily Mikaela Richard, Houston, Texas, Court of Federal Claims Number 03-0664V

567. Jennifer and Willard Bradley on behalf of Sean Ryan Bradley, Houston, Texas, Court of Federal Claims Number 03-0665V

568. Torrie Smith on behalf of Tyshawn Maliek Smith, Houston, Texas, Court of Federal Claims Number 03-0666V

569. Shannon Grafenstine on behalf of Michael Patrick Smith, Philadelphia, Pennsylvania, Court of Federal Claims Number 03-0667V

570. Rochelle and Justin Newton on behalf of Joseph Newton, Tampa, Florida, Court of Federal Claims Number 03-0670V

571. Gail Cahill and Alberto Velez on behalf of Christian D. Velez, Houston, Texas, Court of Federal Claims Number 03-0671V

572. Deanna and Lee Parker on behalf of Lee Thomas Parker, Houston, Texas, Court of Federal Claims Number 03-0672V

573. Amy Tuorila on behalf of Jayden Taypor Tuorila, Houston, Texas, Court of Federal Claims Number 03-0673V

574. Vicky and Scott Truett on behalf of Chance Scott Truett, Houston, Texas, Court of Federal Claims Number 03-0674V

575. Angelia January on behalf of Jazzlyn January, Houston, Texas, Court of Federal Claims Number 03-0675V

576. Doreen Mandy on behalf of Raymond Calamito, Jr., Great Neck, New York, Court of Federal Claims Number 03-0676V

577. Linda Carzoli on behalf of Thomas Carzoli, Great Neck, New York, Court of Federal Claims Number 03-0677V

578. Theresa and James Roberts on behalf of Calen Mae Roberts, Great Neck, New York, Court of Federal Claims Number 03-0678V

579. Florence and Steven Cataneo on behalf of Taylor Rae Cataneo, Great Neck, New York, Court of Federal Claims Number 03-0679V

580. Rita and Marc Safian on behalf of Daniel Safian, Great Neck, New York, Court of Federal Claims Number 03-0680V

581. Carla and John Fitzsimons on behalf of John Fitzsimons, Jr., Great Neck, New York, Court of Federal Claims Number 03-0681V

Dated: July 29, 2003.
Elizabeth M. Duke,
Administrator.

[FR Doc. 03-19798 Filed 8-4-03; 8:45 am]

BILLING CODE 4165-15-U